DEPARTMENT OF TRANSPORTATION

Federal Aviation Administration

14 CFR Part 39

[Docket No. FAA-2011-0035; Directorate Identifier 2010-NM-110-AD; Amendment 39-16672; AD 2011-09-10]

RIN 2120-AA64

Airworthiness Directives; Airbus Model A300 B4-601, B4-603, B4-605R, C4-605R Variant F, and F4-605R Airplanes, and A310-204 and -304 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Airbus, in the frame of the Extended Service Goal (ESG) exercise, has demonstrated by post-certification analysis that, among the types of yokes in service, one component on the CF6-80C2 forward engine mounts (skinny cast yoke) does not meet the Design Service Goal (DSG) requirements.

This condition, if not corrected, could result in a deterioration of the structural integrity of the forward engine mount.

* * * * *

The unsafe condition is possible separation of the engine from the engine mount during flight. We are issuing this AD to require actions to correct the unsafe condition on these products.

DATES: This AD becomes effective June 6, 2011.

The Director of the Federal Register approved the incorporation by reference of certain publications listed in this AD as of June 6, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 1, 2011 (76 FR 5507). That NPRM proposed to correct an unsafe condition for the specified products. The MCAI states:

Airbus, in the frame of the Extended Service Goal (ESG) exercise, has demonstrated by post-certification analysis that, among the types of yokes in service, one component on the CF6-80C2 forward engine mounts (skinny cast yoke) does not meet the Design Service Goal (DSG) requirements.

This condition, if not corrected, could result in a deterioration of the structural integrity of the forward engine mount.

For the reasons described above, this AD requires operators to [perform an inspection to determine the part number of the forward engine mount skinny cast yokes,] perform a one time [detailed] inspection [for rupture] of the forward engine mount skinny cast yokes Part Number (P/N) 9383M43G08, 9383M43G09, 9383M43G10 and 9383M43G11 of GE CF6-80C2 powered aeroplanes and to replace the affected skinny cast yokes with forged yokes.

Upon replacement of the skinny cast yoke, the General Electric CF6-80C2 Service Bulletin (SB) 72-0222 [installation of a redesigned forward engine mount system] must be completed as a prerequisite.

The unsafe condition is possible separation of the engine from the engine mount during flight. You may obtain further information by examining the MCAI in the AD docket.

Comments

We gave the public the opportunity to participate in developing this AD. We considered the comment received. FedEx supports the NPRM.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 53 products of U.S. registry. We also estimate that it will take about 10 work-hours per product to comply with the basic requirements of this AD. The average labor rate is $85 per work-hour. Based on these figures, we estimate the cost of this AD to the U.S. operators to be $45,050, or $850 per product.

In addition, we estimate that any necessary follow-on actions would take about 608 work-hours and require parts costing $322,000, for a cost of $373,680 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-09-10 Airbus: Amendment 39-16672. Docket No. FAA-2011-0035; Directorate Identifier 2010-NM-110-AD.

Effective Date

(a) This airworthiness directive (AD) becomes effective June 6, 2011.

Affected ADs

(b) None.

Applicability

(c) This AD applies to Airbus Model A300 B4-601, B4-603, B4-605R, C4-605R Variant F, and F4-605R airplanes, and A310-204 and -304 airplanes; certificated in any category; powered by General Electric Model CF6-80C2 engines.

Subject

(d) Air Transport Association (ATA) of America Code 71: Powerplant.

Reason

(e) The mandatory continuing airworthiness information (MCAI) states:

Airbus, in the frame of the Extended Service Goal (ESG) exercise, has demonstrated by post-certification analysis that, among the types of yokes in service, one component on the CF6-80C2 forward engine mounts (skinny cast yoke) does not meet the Design Service Goal (DSG) requirements.

This condition, if not corrected, could result in a deterioration of the structural integrity of the forward engine mount.

* * * * *

The unsafe condition is possible separation of the engine from the engine mount during flight.

Compliance

(f) You are responsible for having the actions required by this AD performed within the compliance times specified, unless the actions have already been done.

Inspection and Corrective Actions

(g) Within 400 flight cycles after the effective date of this AD, for each engine, inspect to determine the part number of the forward engine mounting yoke, in accordance with Airbus All Operators Telex A300-71A6029 or A310-71A2036, both dated March 30, 2010, as applicable. A review of airplane maintenance records is acceptable in lieu of this inspection if the part number of the yoke can be conclusively determined from that review.

(1) If the inspection required in paragraph (g) of this AD finds any mounting yoke is a skinny cast yoke having part number (P/N) 9383M43G08, 9383M43G09, 9383M43G10, or 9383M43G11, do a detailed inspection of the yoke to determine if it is ruptured, in accordance with Airbus All Operators Telex A300-71A6029 or A310-71A2036, both dated March 30, 2010, as applicable.

(i) If the mounting yoke is ruptured, before further flight, repair in accordance with a method approved by the FAA or the European Aviation Safety Agency (EASA) or its delegated agent.

(ii) If the mounting yoke is not ruptured, within 7,000 flight cycles after the effective date of this AD replace the skinny cast yoke with a forged yoke, in accordance with Airbus All Operators Telex A300-71A6029 or A310-71A2036, both dated March 30, 2010, as applicable.

(2) At the applicable time specified in paragraph (g)(2)(i) or (g)(2)(ii) of this AD, report to Airbus the findings of the inspection required by paragraph (g)(1) using Appendix 02 and Appendix 03, as applicable, of Airbus All Operators Telex A300-71A6029 or A310-71A2036, both dated March 30, 2010, as applicable. Send the report to Laure Dupland, SEEE3; Customer Services; telephone +33 (0)5 61 18 20 24; fax +33 (0)5 61 93 36 14; e-mail laure.dupland@airbus.com.

(i) If the inspection was done on or after the effective date of this AD: Submit the report within 30 days after the inspection.

(ii) If the inspection was done before the effective date of this AD: Submit the report within 30 days after the effective date of this AD.

(h) Prior to or concurrent with the actions required by paragraph (g)(1)(ii) of this AD, install a redesigned forward engine mount system in accordance with the Accomplishment Instructions of GE CF6-80C2 Service Bulletin 72-0222, Revision 4, dated February 29, 2000.

(i) As of the effective date of this AD, do not install any forward engine mount skinny cast yoke having P/N 9383M43G08, 9383M43G09, 9383M43G10, or 9383M43G11, on any airplane.

FAA AD Differences

Note 1: This AD differs from the MCAI and/or service information as follows: No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue, SW., Renton, Washington 98057-3356; telephone (425) 227-2125; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(k) Refer to MCAI European Aviation Safety Agency (EASA) Airworthiness Directive 2010-0066, dated April 21, 2010; and the service information identified in table 1 of this AD; for related information.

Table 1—Service Information
Service information | Revision | Date
Airbus All Operators Telex A300-71A6029 | Original | March 30, 2010.
Airbus All Operators Telex A310-71A2036 | Original | March 30, 2010.
GE CF6-80C2 Service Bulletin 72-0222 | 4 | February 29, 2000.

Material Incorporated by Reference

(l) You must use the service information contained in table 2 of this AD, as applicable, to do the actions required by this AD, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Table 2—Material Incorporated by Reference
Service information | Revision | Date
Airbus All Operators Telex A300-71A6029, including Appendices 01, 02, 03, and 04 | Original | March 30, 2010.
Airbus All Operators Telex A310-71A2036, including Appendices 01, 02, 03, and 04 | Original | March 30, 2010.
GE CF6-80C2 Service Bulletin 72-0222 | 4 | February 29, 2000.

Issued in Renton, Washington, on April 13, 2011.
Ali Bahrami,
Manager, Transport Airplane Directorate, Aircraft Certification Service.

[FR Doc. 2011-9678 Filed 4-29-11; 8:45 am]

BILLING CODE 4910-13-P